INTERNATIONAL TRADE COMMISSION

[Investigation No. 337-TA-868]

Certain Wireless Devices With 3G and/or 4G Capabilities and Components Thereof; Commission Decision Not To Review an Initial Determination Regarding Substitution of Respondents

AGENCY: U.S. International Trade Commission.

ACTION: Notice.

SUMMARY: Notice is hereby given that the U.S. International Trade Commission has determined not to review the presiding administrative law judge's (“ALJ”) initial determination (“ID”) (Order No. 116), substituting Microsoft Mobility OY (“MMO”) for one of the two Nokia respondents.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on February 5, 2013, based on a complaint filed by InterDigital Communications, Inc. of King of Prussia, Pennsylvania, as well as InterDigital Technology Corporation, IPR Licensing, Inc., and InterDigital Holdings, Inc., each of Wilmington, Delaware (collectively, “InterDigital”). 78 FR 8191 (Feb. 5, 2013). The complaint alleged violations of section 337 of the Tariff Act of 1930, as amended 19 U.S.C. 1337, by reason of the infringement of certain claims from seven United States Patents. The notice of institution named ten respondents including Nokia, Inc. of White Plains, New York; and Nokia Corp. of Espoo, Finland (collectively, “Nokia”).

On September 2, 2013, Microsoft Corp. (“Microsoft”), through an affiliate, entered into a Stock and Asset Purchase Agreement with Nokia Corp. (“the Purchase Agreement”). Pursuant to the Purchase Agreement, Microsoft subsidiary Microsoft Mobility OY (“MMO”) acquired substantially all of Nokia's Devices & Services Business, which includes all of Nokia's mobile device business, including smartphones. Those assets include the entirety of respondent Nokia, Inc. as well as substantial assets from Nokia Corp., which maintains other lines of business, including network equipment and mapping technology. Microsoft also agreed to acquire all liabilities of Nokia Corp. from pending litigations including this investigation. Microsoft has assumed control of defending this investigation.

On May 20, 2014, Nokia and MMO moved to substitute MMO for Nokia, Inc. and Nokia Corp. On May 30, 2013, InterDigital and the Commission investigative attorney (“IA”) filed responses in opposition.

On June 13, 2014, the ALJ issued the subject ID (Order No. 116), which substituted MMO for Nokia, Inc. but not for Nokia Corp.

On June 23, 2014, the respondents (Nokia, Inc.; Nokia Corp.; and MMO) filed a petition for review of Order No. 116, seeking substitution as to Nokia Corp. as well. On June 30, 2014, InterDigital and the IA filed oppositions to the respondents' petition.

The Commission has determined not to review the ID. The Commission notes that pursuant to Commission Rule 210.21(c), 19 CFR 210.21(c), Nokia Corp. may enter into a consent order to terminate its participation in this investigation.

The authority for the Commission's determination is contained in section 337 of the Tariff Act of 1930, as amended (19 U.S.C. 1337), and in Part 210 of the Commission's Rules of Practice and Procedure (19 CFR Part 210).

By order of the Commission.
Issued: July 14, 2014.
Lisa R. Barton,
Secretary to the Commission.

[FR Doc. 2014-16881 Filed 7-17-14; 8:45 am]

BILLING CODE 7020-02-P